SECURITIES AND EXCHANGE COMMISSION

Sunshine Act Meeting

Notice is hereby given, pursuant to the provisions of the Government in the Sunshine Act, Public Law 94-409, that the Securities and Exchange Commission Investor Advisory Committee will hold a meeting on Thursday, April 11, 2013, in Multi-Purpose Room LL-006 at the Commission's headquarters, 100 F Street NE., Washington, DC. The meeting will begin at 10:00 a.m. (EDT) and will be open to the public, except for subcommittee meetings. Seating will be on a first-come, first-served basis. Doors will open at 9:30 a.m. Visitors will be subject to security checks. The meeting will be Webcast on the Commission's Web site at www.sec.gov.

Commissioner Aguilar, as duty officer, determined that no earlier notice thereof was possible.

On March 29, 2013, the Commission issued notice of the Committee meeting (Release No. 33-9397), indicating that the meeting is open to the public and inviting the public to submit written comments to the Committee. This Sunshine Act notice is being issued because a quorum of the Commission may attend the meeting.

The agenda for the meeting includes: (i) approval of minutes; (ii) consideration of a recommendation of the Investor as Purchaser subcommittee regarding target date funds; (iii) subcommittee meetings; and (iv) subcommittee updates. For further information, please contact the Office of the Secretary at (202) 551-5400.

Dated: April 5, 2013.
Elizabeth M. Murphy,
Secretary.

[FR Doc. 2013-08427 Filed 4-8-13; 11:15 am]

BILLING CODE 8011-01-P